GENERAL SERVICES ADMINISTRATION

[OMB Control No. 3090-XXXX; Docket No. 2022-0001; Sequence No. 16]

Submission for OMB Review; GSA Equity Study on Remote Identity Proofing; Correction

AGENCY: Technology Transformation Services (TTS), General Services Administration (GSA).

ACTION: Notice; correction.

SUMMARY: The General Services Administration published a document in the Federal Register of February 10, 2023, concerning a request for comments regarding a new information collection. The document contained information in the discussion and analysis section that is no longer needed.

FOR FURTHER INFORMATION CONTACT: Tiffany Andrews or Gerardo E. Cruz-Ortiz by phone 202-969-0772 or via email to identityequitystudy@gsa.gov.

SUPPLEMENTARY INFORMATION:

Correction

In the Federal Register of February 10, 2023, in FR Doc. 2023-03131, on page 8864, in the second column, correct the sixth paragraph to read:

GSA is consulting with the Center for Information Technology Research (CITeR) and researchers at Clarkson University to ensure that the statistical design of the study is sound. GSA representatives have met with staff from other government agencies that have conducted similar research. These groups have agreed that the collection is useful and necessary to improve the delivery of government services.

Beth Anne Killoran,
Deputy Chief Information Officer.

[FR Doc. 2023-06174 Filed 3-24-23; 8:45 am]

BILLING CODE 6820-AB-P